DEPARTMENT OF TRANSPORTATION

Federal Aviation Administration

14 CFR Part 39

[Docket No. FAA-2010-1277; Directorate Identifier 2010-NM-218-AD]

RIN 2120-AA64

Airworthiness Directives; Airbus Model A330-200 and -300 Series Airplanes, and Model A340-200 and -300 Series Airplanes

AGENCY: Federal Aviation Administration (FAA), DOT.

ACTION: Proposed rule; rescission.

SUMMARY: We propose to rescind airworthiness directive (AD) 2009-18-19. This proposed AD results from mandatory continuing airworthiness information (MCAI) issued by EASA, to rescind EASA AD 2010-0083. The MCAI specifies the following:

It has been assessed that multiple NRV [non return valve] failures in combination with certain trapped fuel cases could potentially increase the quantity of unusable fuel on the aeroplane, possibly leading to fuel starvation which could result in engines in-flight shut down and would constitute an unsafe condition. To prevent and detect this condition, EASA issued EASA AD 2010-0083.

Based on in service experience, mainly on the results of the operational test required by EASA AD 2010-0083, Airbus has performed a safety analysis on the NRV to check if the safety objectives are met.

This analysis of the Collector Cell motive flow line NRV, taking into account all failure scenarios, concludes that the previous non compliance can be alleviated. Consequently, no unsafe condition exists any more on the affected NRV.

For the reasons described above, EASA AD 2010-0083 is cancelled.

The proposed AD would rescind the parallel FAA AD 2009-18-19.

DATES: We must receive comments on this proposed AD by February 14, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2010-1277; Directorate Identifier 2010-NM-218-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 26, 2009, we issued AD 2009-18-19, Amendment 39-16016 (74 FR 46322, September 9, 2009). That AD was intended to address an unsafe condition on the products listed above. That AD requires a periodic operational test to check the operation of the non-return valve, and corrective actions if necessary. That AD corresponds to AD 2008-0209, dated November 27, 2008, issued by the European Aviation Safety Agency (EASA), which is the Technical Agent for the Member States of the European Community. EASA AD 2008-0209 was superseded by EASA AD 2010-0083, dated May 3, 2010.

Since we issued AD 2009-18-19, EASA issued Airworthiness Directive 2010-0083-CN, dated September 20, 2010, to cancel EASA AD 2010-0083, dated May 3, 2010, for the specified products. EASA AD 2010-0083-CN states:

It has been assessed that multiple NRV [non return valve] failures in combination with certain trapped fuel cases could potentially increase the quantity of unusable fuel on the aeroplane, possibly leading to fuel starvation which could result in engines in-flight shut down and would constitute an unsafe condition. To prevent and detect this condition, EASA issued EASA AD 2010-0083.

Based on in service experience, mainly on the results of the operational test required by EASA AD 2010-0083, Airbus has performed a safety analysis on the NRV to check if the safety objectives are met.

This analysis of the Collector Cell motive flow line NRV, taking into account all failure scenarios, concludes that the previous non compliance can be alleviated. Consequently, no unsafe condition exists any more on the affected NRV.

For the reasons described above, EASA AD 2010-0083 is cancelled.

You may obtain further information by examining the MCAI in the AD docket.

FAA's Conclusions

Upon further consideration, we have determined that the unsafe condition identified in AD 2009-18-19 does not exist. The safety analysis conducted by Airbus verified that the safety objectives (failure rate) for the NRV are met, and the NRV complies with regulatory standards. Since the unsafe condition identified in the AD has been eliminated, AD 2009-18-19 is no longer necessary.

Pursuant to our bilateral agreement with the State of Design Authority, we have been notified of the rescission described in the MCAI. Accordingly, this proposed AD would rescind AD 2009-18-19. Rescission of AD 2009-18-19 would not preclude the FAA from issuing another related action or commit the FAA to any course of action in the future.

Differences Between This AD and the MCAI or Service Information

We have reviewed the MCAI and, in general, agree with the substance. But we might have found it necessary to use different words from those in the MCAI to ensure the AD is clear for U.S. operators and is enforceable. In making these changes, we do not intend to differ substantively from the information provided in the MCAI.

Costs of Compliance

AD 2009-18-19 affects about 50 airplanes of U.S. registry. The estimated cost of the currently required actions for U.S. operators is $20,000, or $400 per airplane. Rescinding AD 2009-18-19 would eliminate those costs.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding an airworthiness directive (AD) that removes AD 2009-18-19, Amendment 39-16016 (74 FR 46322, September 9, 2009), to read as follows:

Airbus: Docket No. FAA-2010-1277; Directorate Identifier 2010-NM-218-AD.

Comments Due Date

(a) We must receive comments by February 14, 2011.

Affected ADs

(b) This AD rescinds AD 2009-18-19, Amendment 39-16016.

Applicability

(c) This AD applies to the airplanes, certificated in any category, identified in paragraphs (c)(1) and (c)(2) of the AD.

(1) Airbus Model A330-201, -202, -203, -223, -243, -301, -302, -303, -321, -322, -323, -341, -342, and -343 series airplanes, all serial numbers.

(2) Airbus Model A340-211, -212, -213, -311, -312, and -313 series airplanes, all serial numbers.

Related Information

(d) Refer to MCAI European Aviation Safety Agency (EASA) Airworthiness Directive 2010-0083-CN, dated September 20, 2010, for related information.

Issued in Renton, Washington, on December 17, 2010.
Ali Bahrami,
Manager, Transport Airplane Directorate, Aircraft Certification Service.

[FR Doc. 2010-32997 Filed 12-29-10; 8:45 am]

BILLING CODE 4910-13-P